DEPARTMENT OF AGRICULTURE

Forest Service

Notice of Columbia County Resource Advisory Committee Meeting

AGENCY: Forest Service, USDA.

ACTION: Notice of Meeting.

SUMMARY: Pursuant to the authorities in the Federal Advisory Committee Act (Pub. L. 92-463) and under the Secure Rural Schools and Community Self-Determination Act of 2000, as amended, (Pub. L. 110-343), the Umatilla National Forest, Columbia County Resource Advisory Committee will conduct a business meeting. The meeting is open to the public.

DATES: Monday April 5, 2010, beginning at 6:30 p.m.

ADDRESSES: U.S. Post Office, 202 South Second Street, Dayton, Washington.

SUPPLEMENTARY INFORMATION: Agenda topics will include review and approval of project proposals, and is an open public forum.

FOR FURTHER INFORMATION CONTACT: Monte Fujishin, Designated Federal Official, at (509) 843-1891 or e-mail mfujishin@fs.fed.us.

Dated: March 24, 2010.
Monte Fujishin,
District Ranger, Pomeroy Ranger District, Umatilla National Forest.

[FR Doc. 2010-7068 Filed 3-29-10; 8:45 am]

BILLING CODE 3410-BH-P